DEPARTMENT OF JUSTICE

Notice of Lodging of Proposed Consent Decree Under the Resource Conservation and Recovery Act (“RCRA”)

On December 13, 2013, the Department of Justice lodged a proposed Consent Decree with the United States District Court for Oregon in the lawsuit entitled United States v. Oregon Metallurgical, LLC and TDY Industries, LLC, 6:13-cv-02188-TC.

This is a civil action resulting from the improper storage, handling and disposal of hazardous wastes in violation of the Resource Conservation and Recovery Act (“RCRA”), which is part of the Solid Waste Disposal Act (“SDWA”), by Defendants Oregon Metallurgical, LLC, and TDY Industries, LLC.

The United States seeks injunctive relief and civil penalties intended to deter Defendants from creating further risks to human health and the environment by improperly handling and disposing of hazardous waste in the future.

The publication of this notice opens a period for public comment on the Proposed Consent Decree. The Department of Justice will receive comments concerning the settlement for a period of thirty (30) days from the date of publication of this notice. Comments should be addressed to the Assistant Attorney General, Environment and Natural Resources Division and should refer to United States v. Oregon Metallurgical, LLC and TDY Industries, LLC, 6:13-cv-02188-TC, Dept. of Justice #: 90-7-1-09839.

Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $8.75 (25 cents per page reproduction cost) payable to the United States Treasury.

Susan M. Akers,
Assistant Section Chief, Environmental Enforcement Section, Environment and Natural Resources Division.

[FR Doc. 2013-30352 Filed 12-20-13; 8:45 am]

BILLING CODE 4410-15-P